ENVIRONMENTAL PROTECTION AGENCY

[FRL-7389-9; CWA-HQ-2001-6013; CAA-HQ-2001-6013; RCRA-HQ-2001-6013]

Clean Water Act Class II: Proposed Administrative Settlement, Penalty Assessment and Opportunity To Comment Regarding IPSCO Steel, Inc.

AGENCY: Environmental Protection Agency (EPA).

ACTION: Notice.

SUMMARY: EPA has entered into a consent agreement with IPSCO Steel, Inc. (“IPSCO” or “Respondent”) to resolve violations of the Clean Water Act (“CWA”), Clean Air Act (“CAA”), and Resource Conservation and Recovery Act (“RCRA”) and their implementing regulations.

The Administrator is hereby providing public notice of this consent agreement and proposed final order, and providing an opportunity for interested persons to comment on the CWA portions of this consent agreement, in accordance with CWA section 311(b)(6)(C), 33 U.S.C. 1321(b)(6)(C).

Respondent's Spill Prevention Control and Countermeasure (“SPCC”) plan was inadequate. Although required controls were in place, the plan did not include all of the guidelines codified at 40 CFR 112.7. EPA, as authorized by CWA section 311(b)(6), 33 U.S.C. 1321(b)(6), has assessed a civil penalty for these violations.

Respondent failed to meet the CAA New Source Performance Standard (“NSPS”) requirements for Electric Arc Furnaces (“EAFs”) pursuant to 40 CFR part 60, subpart AAa in violation of CAA section 111, 42 U.S.C. 4411. Additionally, Respondent failed to meet certain conditions listed in two of its Prevention of Significant Deterioration (“PSD”) Permits in violation of CAA section 110, 42 U.S.C. 7410, and Iowa's state implementation plan (“SIP”). EPA, as authorized by CAA section 113(d)(1), 42 U.S.C. 7413(d)(1), has assessed a civil penalty for these violations.

Respondent failed to properly label and date hazardous waste containers in accordance with 40 CFR 262.34(a)(2) and (a)(3). The facility's RCRA contingency plan was inadequate when it failed to describe the precise location of emergency equipment in accordance with 40 CFR 265.52(e), referenced in 40 CFR 262.34(a). Respondent's training records were deficient, pursuant to 40 CFR 265.16, as referenced in 40 CFR 262.34(a). Respondent failed to have universal waste training as required by 40 CFR 273.16. Respondent failed to label drums with the words “used oil” in accordance with 40 CFR 279.22. EPA, as authorized by RCRA section 9008a, 42 U.S.C. 6928a, has assessed a civil penalty for these violations.

DATES: Comments are due on or before November 4, 2002.

ADDRESSES: Mail written comments to the Docket Office, Enforcement & Compliance Docket and Information Center (2201T), Docket Number EC-2002-022, Office of Enforcement and Compliance Assurance, U.S. Environmental Protection Agency, EPA West Building, 1200 Pennsylvania Avenue, NW., Room B133, Washington, DC 20460. (Comments may be submitted on disk in WordPerfect 9.0 or earlier versions.) Written comments may be delivered in person to: Enforcement and Compliance Docket Information Center, U.S. Environmental Protection Agency, EPA West Building, Room B133, 1301 Constitution Avenue, NW., Washington, DC. Submit comments electronically to docket.oeca@epa.gov. Electronic comments may be filed online at many Federal Depository Libraries.

The consent agreement, the proposed final order, and public comments, if any, may be reviewed at the Enforcement and Compliance Docket Information Center, U.S. Environmental Protection Agency, Rm. B133, EPA West Bldg., 1301 Constitution Avenue, NW., Washington, DC. Persons interested in reviewing these materials must make arrangements in advance by calling the docket clerk at (202) 566-1512 or (202) 566-1513. A reasonable fee may be charged by EPA for copying docket materials.

FOR FURTHER INFORMATION CONTACT: Philip Milton, Multimedia Enforcement Division (2248-A), U.S. Environmental Protection Agency, 1200 Pennsylvania Avenue, NW., Washington, DC 20460; telephone (202) 564-5029; fax: (202) 564-0010; e-mail: milton.philip@epa.gov.

SUPPLEMENTARY INFORMATION: Electronic Copies: Electronic copies of this document are available from the EPA Home Page under the link “Laws and Regulations” at the Federal Register—Environmental Documents entry (http://www.epa.gov/fedrgstr).

I. Background

IPSCO Steel, Inc., a steel manufacturer located in Muscatine, Iowa and incorporated in the State of Delaware, disclosed, pursuant to the EPA “Incentives for Self-Policing: Discovery, Disclosure, Correction and Prevention of Violations' (“Audit Policy”), 65 FR 19618 (April 11, 2000), that its SPCC plan failed to include a reference to each of the guidelines found in 40 CFR 112.7, in violation of the CWA section 311(b)(3). Respondent disclosed that it had failed to record furnace pressure, fan amps, and damper positions on a “once-per-shift” basis. The NSPS for EAFs, 40 CFR part 60, subpart AAa, requires that furnace pressure, fan amps, and damper positions be checked and recorded on a “once-per-shift” basis. The failure to record these readings during separate shifts is a violation of 40 CFR 60.274a(b) and CAA section 111, 42 U.S.C. 7411. Respondent disclosed that it failed to maintain a logbook resulting in violations of requirements in its PSD permit no. 94-A-561-S1 to (1) maintain records of startup, shutdown, and malfunction of its two coiling reheat furnaces; (2) monitor the inlet combustion air temperature and furnace combustion chamber temperature and record any times that the temperature exceeds 2100°F; and (3) monitor percent of excess air supplied to the burners and record times when excess air exceeds 10 percent. Respondent disclosed that it failed to use “emulsion” for dust suppression on the slag-haul road in violation of its PSD permit no. 94-A-555-S1. IPSCO's outside contractor, Heckett Multiserve, used water rather than emulsion. Respondent disclosed that three rolloff boxes containing hazardous waste K061 and a 55-gallon drum of spent ethyl acetate were not properly labeled. IPSCO did not properly label rolloff boxes and drum with the words “Hazardous Wastes” and the date accumulation commenced, as required by 40 CFR 262.34(a). IPSCO disclosed that its RCRA contingency plan did not identify specifically the location of emergency response and communication equipment in the areas surrounding the emission control baghouse and other areas where hazardous materials are managed, as required by 40 CFR 262.34(a), which incorporates by reference 40 CFR 265.52(e). Respondent disclosed that its RCRA training records were deficient. The records did not include a written job title and description for each position that involves hazardous wastes and the names of those filling each position. Although this information is available at the plant, 40 CFR 262.34, which incorporates by reference 40 CFR 265.16, requires that this information be maintained in one location. Respondent disclosed that its universal waste training program was deficient. IPSCO did not incorporate universal waste training into its RCRA training, which it provides to all employees, as required by 40 CFR 273.16. Finally, Respondent disclosed that three drums of used oil were not properly labeled. IPSCO did not have “used oil” labels on three drums containing used oil as required by 40 CFR 279.22.

EPA determined that Respondent met the criteria set out in the Audit Policy for a 100% waiver of the gravity component of the penalty for the CWA violation and certain CAA and RCRA violations. However, Respondent failed to satisfy some of the conditions set forth in the Audit Policy for certain CAA and RCRA violations and was assessed an appropriate and fair civil penalty ($16,790) to settle those violations. As a result, for those violations meeting the audit policy, EPA waived the gravity based penalty ($186,989) and proposed a settlement penalty amount of two thousand, nine hundred and fifty-three dollars ($2,953). Of this amount, $2,809 is attributable to the CAA violations; $77 is attributable to the RCRA violations; and $67 is attributable to the CWA violation. This is the amount of the economic benefit gained by Respondent, attributable to its delayed compliance with the CWA, RCRA, and CAA regulations. The total civil penalty assessed for settlement purposes is nineteen thousand seven hundred and forty-three dollars ($19,743). Respondent has agreed to pay this amount. EPA and Respondent negotiated and reached an administrative consent agreement, following the Consolidated Rules of Practice, 40 CFR 22.13(b), on September 26, 2002 (In Re: IPSCO Steel, Inc. Docket Nos. CWA-HQ-2001-6013, CAA-HQ-2001-6013, RCRA-HQ-2001-6013). This consent agreement is subject to public notice and comment under CWA section 311(b)(6), 33 U.S.C. 1321(b)(6).

Under CWA section 311(b)(6)(A), 33 U.S.C. 1321(b)(6)(A), any owner, operator, or person in charge of a vessel, onshore facility, or offshore facility from which oil is discharged in violation of the CWA section 311(b)(3), 33 U.S.C. 1321(b)(3), or who fails or refuses to comply with any regulations that have been issued under CWA section 311(j), 33 U.S.C. 1321(j), may be assessed a Class II civil penalty of up to $137,500 by EPA. Class II proceedings under CWA section 311(b)(6) are conducted in accordance with 40 CFR part 22.

The procedures by which the public may comment on a proposed Class II penalty order, or participate in a Clean Water Act Class II penalty proceeding, are set forth in 40 CFR 22.45. The deadline for submitting public comment on this proposed final order is November 4, 2002. All comments will be transferred to the Environmental Appeals Board (“EAB”) of EPA for consideration. The powers and duties of the EAB are outlined in 40 CFR 22.4(a).

Pursuant to CWA section 311(b)(6)(C), EPA will not issue an order in this proceeding prior to the close of the public comment period.

Dated: September 26, 2002.
Rosemarie A. Kelley,
Acting Director, Multimedia Enforcement Division, Office of Enforcement and Compliance Assurance.

[FR Doc. 02-25157 Filed 10-2-02; 8:45 am]

BILLING CODE 6560-50-P